DEPARTMENT OF COMMERCE

Patent and Trademark Office

Agency Information Collection Activities; Submission to the Office of Management and Budget (OMB) for Review and Approval; Comment Request; Law School Clinic Certification Program

AGENCY: United States Patent and Trademark Office, Department of Commerce.

ACTION: Notice of information collection; request for comment.

SUMMARY: The United States Patent and Trademark Office (USPTO), as required by the Paperwork Reduction Act of 1995, invites comments on the extension and revision of an existing information collection: 0651-0081 Law School Clinic Certification Program. The purpose of this notice is to allow 60 days for public comment preceding submission of the information collection to OMB.

DATES: To ensure consideration, comments regarding this information collection must be received on or before February 21, 2023.

ADDRESSES: Interested persons are invited to submit written comments by any of the following methods. Do not submit Confidential Business Information or otherwise sensitive or protected information.

• Federal Rulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Dahlia George, Office of Enrollment and Discipline, United States Patent and Trademark Office, P.O. Box 1450, Alexandria, VA 22313-1450; by telephone at 571-272-4097; or by email at Dahlia.George@uspto.gov with “0651-0081 comment” in the subject line. Additional information about this information collection is also available at http://www.reginfo.gov under “Information Collection Review.”

SUPPLEMENTARY INFORMATION:

I. Abstract

Public Law 113-227 (Dec. 16, 2014) requires the United States Patent and Trademark Office to establish regulations and procedures for application to, and participation in, the USPTO Law School Clinic Certification Program. The Program allows students enrolled in a participating law school's clinic to practice patent or trademark law before the USPTO under the direct supervision of an approved faculty clinic supervisor. Each clinic provides legal services on a pro bono basis for clients who qualify for assistance from the law school's clinic. By drafting, filing, and prosecuting patent and trademark applications, students gain valuable experience that would otherwise be unavailable to them while in law school. The program also facilitates the provision of pro bono services to patent and trademark applicants who lack the financial resources necessary for traditional legal representation. Currently, 61 law schools participate in the program.

This information collection covers the applications from law schools that wish to enter the program, faculty advisors who seek to become a faculty clinic supervisor, and students who seek to participate in this program. The collection also includes the required semiannual reports from participating law school clinics and biennial renewals required by the program as well as the request to make special under the Law School Clinic Certification Program, which allows a limited number of applications per semester to be advanced out of turn (accorded special status) for examination if the applicant makes the appropriate showing, to provide law students with practical experience as they will be more likely to receive substantive examination of applications within the school year that the application is filed.

II. Method of Collection

By mail, facsimile, hand delivery, or electronically via email to the USPTO.

III. Data

OMB Control Number: 0651-0081.

Forms: (LS = Law School; SB = Specimen Book).

• PTO-158LS, (Application for Limited Recognition in USPTO Law School Program for Law Students to Practice Before the USPTO).

• PTO/SB/419 (Certification and Request to Make Special under the Law School Program).

Type of Review: Extension and revision of a currently approved information collection.

Affected Public: Private sector; individuals or households.

Respondent's Obligation: Required to obtain or retain benefits.

Estimated Number of Annual Respondents: 860 respondents.

Estimated Number of Annual Responses: 920 responses.

Estimated Time per Response: The USPTO estimates that the responses in this information collection will take the public approximately between 30 minutes (0.5 hours) and 40 hours to complete. This includes the time to gather the necessary information, create the document, and submit the completed item to the USPTO.

Estimated Total Annual Respondent Burden Hours: 1,220 hours.

Estimated Total Annual Respondent Hourly Cost Burden: $63,338.

Table 1—Total Burden Hours and Hourly Costs to Private Sector Respondents
Item No. | Item | Number of respondents | Responses per respondent | Number of responses | Estimated response time (hours) | Estimated annual burden hours | Rate ¹ ($/hr) | Total hourly cost burden
|  | (a) | (b) | (a) × (b) = (c) | (d) | (c) × (d) = (e) | (f) | (e)×(f) = (g)
1 | Application by Law School to Enter the Program | 5 | 1 | 5 | 40 | 200 | $62.89 | $12,578
4 | Semiannual Report Required of Law School Clinics | 60 | 2 | 120 | 5 | 600 | 62.89 | 37,734
5 | Biennial Renewal Application by Law School | 30 | 1 | 30 | 1 | 30 | 62.89 | 1,887
Total |  | 95 |  | 155 |  | 830 |  | 52,199

Table 2—Total Burden Hours and Hourly Costs to Individual and Household Respondents
Item No. | Item | Number of respondents | Responses per respondent | Number of responses | Estimated response time (hours) | Estimated annual burden hours | Rate ² ($/hr) | Total hourly cost burden
|  | (a) | (b) | (a) × (b) = (c) | (d) | (c) × (d) = (e) | (f) | (e) × (f) = (g)
2 | Application by Law School Faculty Member to Become a Faculty Clinic Supervisor | 10 | 1 | 10 | 1 | 10 | $62.89 | $629
3 | Application for Limited Recognition for Law Students | 750 | 1 | 750 | 0.5 | 375 | 27.19 | 10,196
6 | Certification and Request to Make Special under the Law School Program | 5 | 1 | 5 | 1 | 5 | 62.89 | 314
Total |  | 765 |  | 765 |  | 390 |  | 11,139

Estimated Total Annual Respondent Non-hourly Cost Burden: $46.

¹ The USPTO expects that university faculty members will complete most of the items in this information collection at an estimated rate of $62.89 per hour. The faculty rate is found in the Occupational Employment and Wage Statistics (25-1112 Law Teachers, Postsecondary (https://www.bls.gov/oes/current/oes251112.htm)). While no exact number is listed as a mean hourly wage, USPTO reached the estimated rate by taking the mean annual wage ($130,820) and dividing it by 2,080, which is the number of annual work hours based on a 40-hour work week. Faculty members serving as Clinic Supervisors must be practicing attorneys (and registered with the Patent Bar for those schools handling patent matters before the USPTO on behalf of applicants).

The cost for law students applying to participate in the program is estimated to be at the 50% hourly rate for legal occupations (BLS 23-0000 Legal Occupations) which is $27.29 per hour (https://www.bls.gov/oes/current/oes230000.htm). This accounts for law students' possible employment in various entry level legal positions.

² Ibid.

There are no maintenance costs, capital start-up costs, or recordkeeping costs associated with this information collection. However, the USPTO estimates that the total annual (non-hour) cost burden for this information collection, in the form of postage is $46.

Postage

The USPTO does not presently use automated or other technological information collection techniques for the items in this collection of information, but submissions are accepted electronically through email. Submissions are also accepted via postal mail and hand delivery. The USPTO expects that only five (5) submissions will be submitted through the U.S. Postal Service. The remaining items will be submitted electronically. The average USPS postage cost for a mailed submission, using a Priority Mail flat rate legal envelope is $9.25. Therefore, the USPTO estimates that the total postage costs for the mailed submissions in this information collection will total $46.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Adminstrative Officer, United States Patent and Trademark Office.

[FR Doc. 2022-27677 Filed 12-20-22; 8:45 am]

BILLING CODE 3510-16-P